NUCLEAR REGULATORY COMMISSION

[Docket No. 50-139]

Notice of License Termination for University of Washington Research Reactor (UWAR)

The U.S. Nuclear Regulatory Commission (NRC) is announcing the termination of facility Operating License No. R-73 for the University of Washington Research Reactor (UWAR).

The NRC has terminated the license of the decommissioned UWAR, at the University of Washington (UWA) in Seattle, Washington, and has released the site for unrestricted use. The UWAR was an Argonaut-type training and research reactor with an initial power output of 10 kilowatts, which later received authority to increase power output to 100 kilowatts. The reactor was permanently shut down on June 30, 1988. By application dated August 2, 1994, the licensee requested authorization to dismantle the UWAR and to dispose of the component parts, in accordance with the decommissioning plan submitted as part of the application. Opportunity for a hearing was afforded by “Notice of Proposed Issuance of Orders Authorizing Disposition of Component Parts and Terminating Facility License” published in the Federal Register on September 2, 1994 (59 FR 45738). No request for a hearing or petition for leave to intervene was filed following notice of the proposed action. The NRC reviewed the application with respect to the Commission's rules and regulations and found that the dismantling and disposal of component parts as stated in the licensee's decommissioning plan are consistent with the regulations in 10 CFR Chapter I and are not inimical to the common defense and security or to the health and safety of the public. On May 1, 1995, the Commission issued the “Order Authorizing Dismantling of Facility and Disposition of Component Parts.”

The licensee conducted remediation activities and completed final status surveys in October 2006. The licensee's request for termination of the license was supported by the submittal of a Final Status Survey Report (FSSR). The NRC completed its review of the UWAR FSSR submitted to NRC by letter dated December 13, 2006, as supplemented February 26 and March 12, 2007. The FSSR documented the level of residual radioactivity remaining at the facility and stated that compliance with the criteria in the NRC-approved decommissioning plan for the reactor has been demonstrated. The NRC staff verified that the criteria in the approved decommissioning plan had been met and determined that the facility and site met the criteria in 10 CFR 20.1402 for unrestricted use.

Pursuant to 10 CFR 50.82(b)(6), the NRC staff has concluded that the reactor has been decommissioned in accordance with the approved decommissioning plan and that the terminal radiation survey and associated documentation demonstrate that the facility and site may be released in accordance with the criteria in the NRC-approved decommissioning plan. Further, on the basis of the decommissioning activities carried out by UWA, the NRC's review of the licensee's FSSR, the results of NRC inspections conducted at the UWAR, and the results of NRC confirmatory surveys, the NRC has concluded that the decommissioning process is complete and the facility and site may be released for unrestricted use. Therefore Facility Operating License No. R-73 is terminated.

For further details with respect to the proposed action, see the licensee's letter dated December 13, 2006, as supplemented February 26 and March 12, 2007; and NRC Inspection Report No. 50-139/2006-204, dated May 21, 2007. The above referenced documents may be examined, and/or copied for a fee, at the NRC's Public Document Room (PDR) at One White Flint North, 11555 Rockville Pike (first floor), Rockville, Maryland. Publicly available records will be accessible electronically from the Agencywide Documents Access and Management System (ADAMS) Public Electronic Reading Room on the Internet at the NRC Web site, http://www.nrc.gov/reading-rm/adams.html. Persons who do not have access to ADAMS or who have problems in accessing the documents in ADAMS should call the NRC PDR reference staff at 1-800-397-4209 or 301-415-4737 or e-mail pdr@nrc.gov.

Dated at Rockville, Maryland, this 29th day of August 2007.
For the Nuclear Regulatory Commission.
Keith I. McConnell,
Deputy Director, Decommissioning and Uranium Recovery Licensing Directorate, Division of Waste Management and Environmental Protection, Office of Federal and State Materials and Environmental Programs.

[FR Doc. E7-17494 Filed 9-4-07; 8:45 am]

BILLING CODE 7590-01-P